NATIONAL AERONAUTICS AND SPACE ADMINISTRATION

[Notice (03-073)]

Notice of Information Collection

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections, as required by the Paperwork Reduction Act of 1995 (Public Law 104-13, 44 U.S.C. 3506(c)(2)(A)).

DATES: All comments should be submitted by August 24, 2003.

ADDRESSES: All comments should be addressed to Mr. David Chambers, Code EI, National Aeronautics and Space Administration, Washington, DC 20546-0001.

FOR FURTHER INFORMATION CONTACT: Ms. Nancy Kaplan, NASA Reports Officer, (202) 358-1372.

Title: Title IX Recipient Request.

OMB Number: 2700-.

Type of review: New collection.

Need and Uses: The information collected will be analyzed and used by NASA to determine NASA grant recipients' compliance with Title IX of the Education Amendments of 1972.

Affected Public: Not-for-profit institutions; Business or other for-profit.

Number of Respondents: 917.

Responses Per Respondent: 1.

Annual Responses: 917.

Hours Per Request: Approx. ½ hour.

Annual Burden Hours: 459.

Frequency of Report: Annually; Other (one time).

Patricia L. Dunnington,
Chief Information Officer, Office of the Administrator.

[FR Doc. 03-15965 Filed 6-24-03; 8:45 am]

BILLING CODE 7510-01-P